DEPARTMENT OF HEALTH AND HUMAN SERVICES

Administration for Community Living

Availability of Program Application Instructions for Adult Protective Services Funding

Title: American Rescue Plan Act of 2021: Grants to Enhance Adult Protective Services.

Announcement Type: Initial.

Statutory Authority: The statutory authority for grants under this program announcement is contained in the Elder Justice Act Section 2042(b) of Title XX of the Social Security Act [Pub. L. 74-271] [As Amended Through Pub. L. 115-123, Enacted February 9, 2018] as referenced in Section 9301of the American Rescue Plan Act of 2021 (Pub. L. 117-2).

Catalog of Federal Domestic Assistance (CFDA) Number: 93.747.

DATES: The deadline date for the submission of the American Rescue Plan Act of 2021: Grants to Enhance Adult Protective Services Letter of Assurance is 11:59 p.m. June 28, 2021.

I. Funding Opportunity Description

The Administration for Community Living (ACL) is establishing the “American Rescue Plan Act of 2021: Grants to Enhance Adult Protective Services” funding opportunity in accordance with Section 2042(b) of Subtitle B of Title XX of the Social Security Act, otherwise known as the Elder Justice Act (EJA) as authorized and funded through the American Rescue Plan Act of 2021 (Pub. L. 117-2). In accordance with these statutes, the purpose of this opportunity is to enhance and improve adult protective services provided by states and local units of government. Funds awarded under this opportunity will provide Adult Protective Services (APS) programs in the states and territories with resources to enhance, improve, and expand the ability of APS to investigate allegations of abuse, neglect, and exploitation. Examples of activities consistent with the purposes of the statute include:

• Establishing or enhancing the availability for elder shelters and other emergency, short-term housing and accompanying “wrap-around” services for APS clients;

• Establishing, expanding, or enhancing state-wide and local-level elder justice networks for the purpose of removing bureaucratic obstacles and improving coordination across the many state and local agencies interacting with APS clients who have experienced abuse, neglect, or exploitation;

• Working with tribal adult protective services efforts, such as conducting demonstrations on state-Tribal APS partnerships to better serve tribal elders who experience abuse, neglect, and exploitation, partnering with Tribes within the state to include tribal elder abuse data in the state's National Adult Maltreatment Reporting System (NAMRS) reporting, and undertaking demonstrations to better understand elder abuse experienced by tribal individuals living in non-tribal communities and served by state APS programs;

• Improving or enhancing existing APS processes for receiving reports, conducting intakes and investigations, planning/providing for services, making case determinations, documenting and closing cases, and continuous quality improvement;

• Improving and supporting remote work, such as the purchase of communications and technology hardware, software, or infrastructure in order to provide adult protective services;

• Improving data collection and reporting at the case worker, local-, and state-levels in a manner that is consistent with the National Adult Maltreatment Reporting System (NAMRS);

• Costs associated with establishing new, or improving existing processes for responding to alleged scams and frauds;

• Costs associated with community outreach;

• Costs associated with providing goods and services to APS clients;

• Acquiring personal protection equipment and supplies;

• Paying for extended hours/over-time for staff, hiring temporary staff, and associated personnel costs;

• Training costs;

• Costs associated with assisting APS clients secure the least restrictive option for emergency or alternative housing, and with obtaining, providing, or coordinating with care transitions as appropriate.

In addition, grantees will be required to create a 3-5 year plan for improving and enhancing their APS system at the state and local level, and submit it to ACL within 6-months of the award date. ACL will provide all grantees with in-depth technical assistance and tools to support grantees in planning for and developing the plans.

Awards authorized under the EJA Section 2042(b) shall be provided to the agency or unit of state government having the legal responsibility for providing adult protective services within the state. Funding under this opportunity may be used to serve any APS client who meets their state's statutory or regulatory criteria for client eligibility for APS services in the state. This funding must supplement and not supplant existing funding for APS provided by states and local units of government. Additionally, award recipients will be required to submit semi-annual federal financial reports and annual program reports related to the activities performed.

II. Award Information

A. Eligible Entity

The eligible entity for these awards is the agency or unit of state government legally responsible for providing adult protective services in each state and territory (EJA Section 2042(b)(3)(B)).

B. Funding Instrument Type

These awards will be made in the form of formula grants to the agencies and units of state government with the legal responsibility to provide adult protective services.

C. Anticipated Total Funding per Budget Period

Under this program announcement, ACL intends to make grant awards to each state, territory, and the District of Columbia. Funding will be distributed through the formula identified in Section 2042(b) of the Elder Justice Act. The amounts allocated are based upon the proportion of elders living in each state and territory, as defined in statute, and will be distributed based on the formula. There are no cost-sharing nor match requirements.

Awards made under this announcement have an estimated start date of August 1, 2021 and an estimated end date of September 30, 2023. The total available funding for this opportunity is $86,060,000. Below are the projected award amounts:

State/territory | Projected amount
Alabama | $1,253,632
Alaska | 645,450
Arizona | 1,865,376
Arkansas | 761,967
California | 8,687,314
Colorado | 1,274,252
Connecticut | 937,381
Delaware | 645,450
Dist. of Columbia | 129,080
Florida | 6,321,959
Georgia | 2,283,242
Hawaii | 645,450
Idaho | 645,450
Illinois | 3,047,328
Indiana | 1,618,610
Iowa | 811,164
Kansas | 704,707
Kentucky | 1,115,193
Louisiana | 1,110,372
Maine | 645,450
Maryland | 1,440,997
Massachusetts | 1,735,714
Michigan | 2,629,735
Minnesota | 1,376,357
Mississippi | 722,828
Missouri | 1,569,549
Montana | 645,450
Nebraska | 645,450
Nevada | 729,486
New Hampshire | 645,450
New Jersey | 2,201,359
New Mexico | 645,450
New York | 4,864,372
North Carolina | 2,579,576
North Dakota | 645,450
Ohio | 3,042,896
Oklahoma | 937,536
Oregon | 1,111,411
Pennsylvania | 3,520,052
Rhode Island | 645,450
South Carolina | 1,366,031
South Dakota | 645,450
Tennessee | 1,688,868
Texas | 5,659,858
Utah | 645,450
Vermont | 645,450
Virginia | 2,021,926
Washington | 1,799,233
West Virginia | 645,450
Wisconsin | 1,517,845
Wyoming | 645,450
American Samoa | 86,060
Guam | 86,060
Northern Marianas | 86,060
Puerto Rico | 951,354
Virgin Islands | 86,060

III. Submission Requirements

A. Letter of Assurance

A Letter of Assurance is required to be submitted by the eligible entity in order to receive an award. The Letter of Assurance must include the following:

1. Assurance that the award recipient is the agency or unit of state government legally responsible for providing adult protective services in each state and territory.

2. Assurance that funds will supplement and not supplant existing APS funding.

3. Assurance the grantee will reserve a reasonable portion of the funds to create a 3-5 year plan for improving and enhancing their APS system at the state and local level, and that the completed plan will be submitted to ACL within the first 6 months of award.

4. Assurance that funds will be spent in ways consistent with the Elder Justice Act Section 2042(b); Section 9301 of the American Rescue Plan Act of 2021; and guidance provided by ACL, including the examples of activities consistent with the purposes of the authorizing legislation contained in the Federal Register Notice:

• Establishing or enhancing the availability for elder shelters and other emergency, short-term housing and accompanying “wrap-around” services;

• Establishing, expanding, or enhancing state-wide and local-level elder justice networks;

• Working with tribal adult protective services efforts;

• Improving or enhancing existing APS processes;

• Improving and supporting remote work;

• Improving data collection and reporting at the case worker, local-, and state-levels in a manner that is consistent with the National Adult Maltreatment Reporting System;

• Establishing new, or improving existing processes for responding to alleged scams and frauds;

• Community outreach;

• Providing goods and services to APS clients;

• Acquiring personal protection equipment and supplies;

• Paying for extended hours/over-time for staff, hiring temporary staff, and associated personnel costs;

• Training;

• Assisting APS clients secure the least restrictive option for emergency or alternative housing, and with obtaining, providing, or coordinating with care transitions as appropriate.

5. Assurance to provide semi-annual federal financial reports and annual program reports related to the activities performed.

B. Initial Spend Plan

An Initial Spend Plan must be submitted along with the Letter of Assurance. The Initial Spend Plan should outline how the state/territory intends to spend their allotment in response to the needs and challenges to their APS program. The plan should be consistent with the purpose of the authorizing legislation and the description and examples outlined above. The Initial Spend Plan submitted in response to this opportunity is considered a preliminary framework for how the state/territory will plan to spend these funds. The Initial Spend Plan should have the following format: 3-5 pages in length, double-spaced, with 12 pt font and 1″ margins, with a layout of 8.5″ x 11″ paper.

C. DUNS Number

All grant applicants must obtain and keep current a D-U-N-S number from Dun and Bradstreet. It is a nine-digit identification number, which provides unique identifiers of single business entities. The D-U-N-S number can be obtained from: https://www.dnb.com/duns-number.html.

D. Intergovernmental Review

Executive Order 12372, Intergovernmental Review of Federal Programs, is not applicable to these grant applications.

IV. Submission Information

A. Submission Process

To receive funding, eligible entities must provide a Letter of Assurance and an Initial Spend Plan containing all the information outlined in Section III A. & B. above.

Letters of Assurance and the Initial Spend Plan should be addressed to: Alison Barkoff, Acting Administrator and Assistant Secretary for Aging, Administration for Community Living, 330 C Street SW, Washington, DC 20201.

Letters of Assurance and the Initial Spend Plan should be submitted electronically via email to aps@acl.hhs.gov.

B. Submission Dates and Times

To receive consideration, Letters of Assurance and the Initial Spend Plan must be submitted by 11:59 p.m. Eastern Time on June 28, 2021. Letters of Assurance and the Initial Spend Plan should be submitted electronically via email to aps@acl.hhs.gov and have an electronic time stamp indicating the date/time submitted.

VII. Agency Contacts

A. Programmatic Issues/Questions

Direct programmatic inquiries to: Stephanie Whittier Eliason, Email: stephanie.whittiereliason@acl.hhs.gov, Phone: 202.795.7467.

B. Fiscal Issues/Questions

Direct fiscal inquiries to: Gina Matrassi, Email: gina.matrassi@acl.hhs.gov, Phone: 202.795.7439.

C. Submission Issues/Questions

Direct inquiries regarding submission of the Letters of Assurance of Initial Spend Plan to aps@acl.hhs.gov. ACL will provide a response within 2 business days.

Dated: May 24, 2021.
Alison Barkoff,
Acting Administrator and Assistant Secretary for Aging.

[FR Doc. 2021-11343 Filed 5-27-21; 8:45 am]

BILLING CODE 4154-01-P